DEPARTMENT OF ENERGY

Federal Energy Regulatory Commission

Combined Notice of Filings

Take notice that the Commission has received the following Natural Gas Pipeline Rate and Refund Report filings:

Docket Numbers: RP21-913-000.

Applicants: Mississippi Canyon Gas Pipeline, L.L.C.

Description: § 4(d) Rate Filing: MCGP Updates to Tariff Contact Person to be effective 7/28/2021.

Filed Date: 6/28/21.

Accession Number: 20210628-5002.

Comments Due: 5 p.m. ET 7/12/21.

Docket Numbers: RP21-914-000.

Applicants: Egan Hub Storage, LLC.

Description: § 4(d) Rate Filing: Egan Updates to Tariff Contact Person to be effective 7/28/2021.

Filed Date: 6/28/21.

Accession Number: 20210628-5003.

Comments Due: 5 p.m. ET 7/12/21.

Docket Numbers: RP21-915-000.

Applicants: Maritimes & Northeast Pipeline, L.L.C.

Description: § 4(d) Rate Filing: Updates to Tariff Contact Person to be effective 7/28/2021.

Filed Date: 6/28/21.

Accession Number: 20210628-5034.

Comments Due: 5 p.m. ET 7/12/21.

Docket Numbers: RP21-916-000.

Applicants: Texas Eastern Transmission, LP.

Description: Compliance filing TETLP OFO June 2021 Penalty Disbursement Report.

Filed Date: 6/28/21.

Accession Number: 20210628-5098.

Comments Due: 5 p.m. ET 7/12/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 29, 2021.
Debbie-Anne A. Reese,
Deputy Secretary.

[FR Doc. 2021-14373 Filed 7-6-21; 8:45 am]

BILLING CODE 6717-01-P